DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 2, 2008.

Interested persons are invited to submit written comments regarding the subject matter of the investigations to the Director, Division of Trade Adjustment Assistance, at the address shown below, not later than June 2, 2008.

The petitions filed in this case are available for inspection at the Office of the Director, Division of Trade Adjustment Assistance, Employment and Training Administration, U.S. Department of Labor, Room C-5311, 200 Constitution Avenue, NW., Washington, DC 20210.

Signed at Washington, DC, this 14th day of May 2008
Erin FitzGerald,
Acting Director, Division of Trade Adjustment Assistance.

Appendix
[TAA petitions instituted between 5/5/08 and 5/9/08]
TA-W | Subject firm (petitioners) | Location | Date of institution | Date of petition
63301 | Quebecor World Northeast Graphics, Inc. (State) | North Haven, CT | 05/05/08 | 05/02/08
63302 | BCS Cuyahoga (Wkrs) | Solon, OH | 05/05/08 | 05/02/08
63303 | HCC Machining—Hermetic Seal (State) | El Monte, CA | 05/05/08 | 04/15/08
63304 | Kaspar and ESH, Inc. (Wkrs) | Long Island City, NY | 05/05/08 | 04/30/08
63305 | Dana Holding Corporation (USW) | Glasgow, KY | 05/05/08 | 04/24/08
63306 | Eastern Display (division of Art Guild, Inc.) (Comp) | Providence, RI | 05/05/08 | 05/02/08
63307 | Condor Products Co., Inc. (Comp) | Owosso, MI | 05/05/08 | 04/30/08
63308 | Sumitomo Bakelite North America (NA), Inc. (State) | Manchester, CT | 05/05/08 | 05/02/08
63309 | Tache Jewelry (Wkrs) | Long Island City, NY | 05/05/08 | 05/02/08
63310 | Rockwell Automation (State) | Eden Praire, MN | 05/05/08 | 05/02/08
63311 | McKechnie Vehicle Components (Comp) | Newberry, SC | 05/05/08 | 05/02/08
63312 | Solon Manufacturing Company—Rhinelander (Rep) | Rhinelander, WI | 05/06/08 | 04/29/08
63313 | Simclar (North America), Inc. (Rep) | Winterville, NC | 05/06/08 | 05/05/08
63314 | MJ Wood Products, Inc. (Comp) | Morrisville, VT | 05/06/08 | 05/05/08
63315 | Performance Fibers Operations, Inc. (Comp) | Salisbury, NC | 05/06/08 | 04/25/08
63316 | Maxim Integrated Products (Comp) | Sunnyvale, CA | 05/06/08 | 05/05/08
63317 | Union Carbide Corporation a Subsid. of The Dow Chemical Co. (Wkrs) | South Charleston, WV | 05/06/08 | 05/05/08
63318 | Raytor Compounds (State) | Florence, MA | 05/06/08 | 05/02/08
63319 | Hood Industries (State) | Coushatta, LA | 05/06/08 | 04/18/08
63320 | Wyeth Company (State) | Andover, MA | 05/06/08 | 05/05/08
63321 | Valley Mills, Inc. (State) | Valley Head, AL | 05/06/08 | 05/05/08
63322 | ARP Manufacturing, LLC (Comp) | North Smithfield, RI | 05/07/08 | 05/05/08
63323 | J-Sport Company (Comp) | Millersburg, OH | 05/07/08 | 05/05/08
63324 | Americall Group, Inc. (Wkrs) | Hobart, IN | 05/07/08 | 04/25/08
63325 | Schott North America, Inc. (Comp) | Auburn, NY | 05/07/08 | 05/02/08
63326 | Dellway Sports, Inc. (Wkrs) | New York, NY | 05/07/08 | 04/17/08
63327 | Logistics Services, Inc. (Comp) | Fenton, MO | 05/07/08 | 05/06/08
63328 | ITT Leopold (IUPAT) | Zelienople, PA | 05/07/08 | 05/05/08
63329 | Maple Leaf Farms, Inc. (UFCW) | Franksville, WI | 05/07/08 | 05/05/08
63330 | Spectrum Yarns, Inc. (Comp) | Marion, NC | 05/07/08 | 05/06/08
63331 | Burlington Finishing Plant (Comp) | Burlington, NC | 05/07/08 | 05/05/08
63332 | Milwaukee Electric Tool Corporation (Comp) | Brookfield, WI | 05/07/08 | 05/06/08
63333 | LDI Composites (Wkrs) | Green Bay, WI | 05/07/08 | 05/01/08
63334 | Stearns/Coleman (State) | Sauk Rapids, MN | 05/07/08 | 05/06/08
63335 | Baumann Springs USA, Inc. (Comp) | Pineville, NC | 05/07/08 | 04/18/08
63336 | CHR Hansen (Wkrs) | Mahwah, NJ | 05/07/08 | 05/06/08
63337 | Adapt Identification (State) | Marlboro, NJ | 05/08/08 | 05/07/08
63338 | Crane Plumbing (Wkrs) | Dallas, TX | 05/08/08 | 04/23/08
63339 | Contact Systems, Inc. (Comp) | Danbury, CT | 05/08/08 | 05/07/08
63340 | S. Shamash and Sons (State) | Secaucus, NJ | 05/08/08 | 05/07/08
63341 | Baja Marine Corporation (Div. of Brunswick Corp) (Comp) | Bucyrus, OH | 05/08/08 | 05/07/08
63342 | Viking and Worthington Steel Enterprise, LLC (USW) | Valley City, OH | 05/08/08 | 05/07/08
63343 | Taylor King (Wkrs) | Taylorsville, NC | 05/08/08 | 05/07/08
63344 | General Motors Truck Plant (Wkrs) | Dayton, OH | 05/08/08 | 05/07/08
63345 | Hix Corporation (Wkrs) | Pittsburg, KS | 05/08/08 | 05/02/08
63346 | Tower Automotive (State) | Kendallville, IN | 05/09/08 | 04/25/08
63347 | R.L. Stowe Mills, Inc. (Comp) | Chattanooga, TN | 05/09/08 | 05/08/08
63348 | BASF Chemical Corporation of Aberdeen (Wkrs) | Aberdeen, MS | 05/09/08 | 05/08/08
63349 | Capel Incorporated (Comp) | Troy, NC | 05/09/08 | 05/08/08
63350 | Solon Manufacturing Company—Skowhegan (Rep) | Skowhegan, ME | 05/09/08 | 04/29/08
63351 | Ina Bearing (Schaeffler Group) (Wkrs) | Spartanburg, SC | 05/09/08 | 05/08/08
63352 | Carolina Furniture Manufacturers, Inc. (Comp) | Ramseur, NC | 05/09/08 | 05/06/08
63353 | Western Union Financial Services, Inc. (CWA) | Dallas, TX | 05/09/08 | 05/07/08
63354 | JBL Professional (Comp) | Northridge, CA | 05/09/08 | 04/06/08
63355 | E and L Garment Company (Wkrs) | San Francisco, CA | 05/09/08 | 05/08/08
63356 | TRG Customer Solutions (Wkrs) | Greensburg, PA | 05/09/08 | 05/08/08
63357 | Hanes Converting Company/Hanes Industries (Wkrs) | Conover, NC | 05/09/08 | 05/07/08
63358 | Rika Denshi America, Inc. (Comp) | Attleboro, MA | 05/09/08 | 05/08/08
63359 | Mania Technologie Production Systems, Inc. (State) | South Windsor, CT | 05/09/08 | 05/08/08
63360 | Motorola, Inc./Mobile Devices (Wkrs) | Fort Worth, TX | 05/09/08 | 05/05/08
63361 | H & R 1871, LLC (Comp) | Gardner, MA | 05/09/08 | 05/07/08

[FR Doc. E8-11366 Filed 5-20-08; 8:45 am]

BILLING CODE 4510-FN-P